DEPARTMENT OF THE INTERIOR

Bureau of Land Management

[NV-060-3809]

Notice of Availability; Draft Environmental Impact Statement; Phoenix Project; Proposed Expansion of Existing Gold, Silver, and Copper Mining/Processing Operations; Lander County, NV

AGENCY: Bureau of Land Management, Interior.

Cooperating Agencies: Nevada Division of Wildlife.

ACTION: Notice of availability of the Draft Environmental Impact Statement for the Phoenix Project, Lander County, Nevada.

SUMMARY: Pursuant to Section 102(2)(c) of the National Environmental Policy Act of 1969 and 40 Code of Federal Regulations parts 1500-1508 Council on Environmental Quality Regulations, notice is hereby given of the availability for comment of the Draft Environmental Impact Statement, prepared by the Battle Mountain BLM, which analyzes the environmental effects of the Proposed Action and the No Action Alternatives.

DATES: Written comments must be post-marked or otherwise delivered by 4:30 p.m. (Pacific time zone) on May 4, 2001. Comments may also be presented at public meetings to be held: April 4, 2001, (7-9 pm) BLM office, Battle Mountain, NV. A limited number of copies of the Draft EIS may be obtained at the Battle Mountain BLM Field Office.

ADDRESSES: Written comments should be addressed to the Bureau of Land Management, Battle Mountain Field Office, 50 Bastian Road, Battle Mountain, Nevada 89820.

FOR FURTHER INFORMATION CONTACT: Pam Jarnecke, Battle Mountain BLM at (775) 635-4144.

SUPPLEMENTARY INFORMATION: Battle Mountain Gold Company (BMG), a wholly owned subsidiary of Newmont Mining Corporation, proposes to expand its current operations near Battle Mountain, Nevada, to include mining and beneficiation of gold, silver, and copper ores. The proposed Phoenix Project would require up to an additional 4,295 acres of disturbance. BMG would develop the Phoenix and Reona pits and expand the Midas and Iron Canyon pits. Mining these ore deposits would be coupled with excavating and beneficiating low-grade gold ore stockpiles associated with the previous Tomboy, Northeast Extension, and Fortitude mining operations. Beneficiation operations would include heap leach facility expansion and new milling facilities. The projected mine life is up to 28 years, followed by five years of reclamation.

Dated: February 13, 2001.
Gerald M. Smith,
Field Manager, Battle Mountain Field Office.

[FR Doc. 01-4824 Filed 2-27-01; 8:45 am]

BILLING CODE 4310-HC-P